DEPARTMENT OF THE INTERIOR

Fish and Wildlife Service

[FWS-R8-R-2016-N061; FXRS282108E8PD0-167-F2013227943]

South Bay Salt Pond Restoration Project, Phase 2 at the Eden Landing Ecological Reserve; Intent To Prepare an Environmental Impact Statement/Environmental Impact Report

AGENCY: Fish and Wildlife Service, Interior.

ACTION: Notice of intent; announcement of meeting; request for public comments.

SUMMARY: We, the U.S. Fish and Wildlife Service (USFWS), in coordination with the California Department of Fish and Wildlife (CDFW), are preparing a joint environmental impact statement/environmental impact report (EIS/EIR) for the proposed restoration of ponds at the CDFW's Eden Landing Ecological Reserve (Reserve) in Alameda County, California. We intend to gather information necessary to prepare an EIS pursuant to the National Environmental Policy Act (NEPA). We encourage the public and other agencies to participate in the NEPA scoping process by attending the public scoping meeting and/or by sending written suggestions and information on the issues and concerns that should be addressed in the draft EIS/EIR, including the range of alternatives, appropriate mitigation measures, and the nature and extent of potential environmental impacts.

DATES:

Submitting Comments: To ensure that we have adequate time to evaluate and incorporate suggestions and other input, we must receive your comments on or before July 20, 2016.

Public Scoping Meeting: A public scoping meeting will be held on Thursday, June 30, 2016, from 1:00 p.m. to 3:00 p.m., at Don Edwards San Francisco Bay National Wildlife Refuge Headquarters—Third Flood Auditorium located at 1 Marshlands Road, Fremont, California, 94555. The details of the public scoping meeting will be posted on the SBSP Restoration Project's Web site (http://www.southbayrestoration.org/events/). Scoping meeting details will also be emailed to the Project's Stakeholder Forum and to those interested parties who request to be notified. Notification requests can be made by emailing the SBSP Restoration Project's public outreach coordinator, Ariel Ambruster, at aambrust@ccp.csus.edu (email) or 510-815-7111 (phone).

Reasonable Accommodations: Persons needing reasonable accommodations in order to attend and participate in the public scoping meeting should contact Ariel Ambruster at least 1 week in advance of the meeting to allow time to process the request.

ADDRESSES: Submitting Comments: Send written comments to Chris Barr, Deputy Complex Manager, Don Edwards San Francisco Bay National Wildlife Refuge, 1 Marshlands Road, Fremont, CA 94555, or to Scott Wilson, CDFW Regional Manager, Bay Delta Region, Silverado Trail, Napa, CA 94558.

Alternatively, you may send written comments by facsimile to 510-792-5828, or via the Internet through the public comments link on the SBSP Restoration Project Web site at www.southbayrestoration.org/Question_Comment.html. Your correspondence should indicate which issue your comments pertain to.

Mailing List: To have your name added to our mailing list, contact Ariel Ambruster; telephone (510) 815-7111; email aambrust@ccp.csus.edu.

FOR FURTHER INFORMATION CONTACT: Chris Barr, Refuge Manager, USFWS, 510-792-0222 (phone).

SUPPLEMENTARY INFORMATION: We, the U.S. Fish and Wildlife Service (USFWS), in coordination with the California Department of Fish and Wildlife (CDFW), are preparing a joint environmental impact statement/environmental impact report (EIS/EIR) for the proposed restoration of ponds E1, E1C, E2, E2C, E4, E4C, E5, E5C, E6, E6C, and E7 at the CDFW's Eden Landing Ecological Reserve (Reserve) in Alameda County, California.

Phase 2 of the SBSP Restoration Project at Eden Landing is intended to restore and enhance a mix of approximately 2,300 acres of wetland habitats while simultaneously providing flood protection and wildlife-oriented public access and recreation in the South Bay.

We intend to gather information necessary to prepare an EIS pursuant to the National Environmental Policy Act (NEPA). We encourage the public and other agencies to participate in the NEPA scoping process by attending the public scoping meeting and/or by sending written suggestions and information on the issues and concerns that should be addressed in the draft EIS/EIR, including the range of alternatives, appropriate mitigation measures, and the nature and extent of potential environmental impacts.

Background

The SBSP Restoration Project is located in the San Francisco Bay, in northern California. The project is a multiagency, multiphase effort to restore and enhance a mix of wetland habitats while simultaneously providing flood protection and wildlife-oriented public access and recreation in the South Bay. The SBSP Restoration Project as a whole contains over 15,000 acres of former industrial salt production ponds in three complexes: The Ravenswood pond complex, the Alviso pond complex, and the Eden Landing pond complex. The Ravenswood and Alviso pond complexes are owned and managed by the U.S. Fish and Wildlife Service as part of the Don Edwards San Francisco Bay National Wildlife Refuge (Refuge). The Eden Landing Ecological Reserve (Reserve) is owned by the California Department of Fish and Wildlife (CDFW).

In 2007, the USFWS and the CDFW published a Final EIS/EIR for the SBSP Restoration Project (72 FR 71937-71939). The SBSP Restoration project presented in the Final EIS/EIR was both programmatic, covering a 50-year period, as well as project-level, addressing the specific components and implementation of Phase 1. Both the USFWS and the CDFW selected the Tidal Emphasis Alternative (Alternative C) for implementation. Alternative C represents a goal of 90 percent of the salt ponds restored to tidal action and 10 percent restored to managed ponds. This ratio of restoration is guided by the Adaptive Management Plan. Implementation of Phase 1 actions began in 2008 and was completed in 2016. The northern half of the Eden Landing pond complex was addressed in Phase 1 and is now complete.

The Phase 2 actions at the Alviso and Ravenswood pond complexes were considered in a separate project-level EIS/EIR, the draft of which was published in August of 2015 and is expected to be finalized in the summer of 2016.

Proposed Action

The CDFW now proposes restoration or enhancement of approximately 2,300 acres of former salt ponds in the southern half of the CDFW-owned Eden Landing pond complex. Phase 2 project-level actions to be evaluated in this EIS/EIR are project-level habitat restoration of approximately 2,300 acres of former salt ponds, while also providing recreation and public access opportunities, and maintaining or improving current levels of flood protection in the surrounding communities.

Habitat restoration actions evaluated in the EIS/EIR may include the following:

• Breaching levees at one or more locations to allow tidal flows into the ponds.

• Adding water control structures to allow some ponds to be retained as enhanced managed ponds for pond-dependent bird species.

• Increasing habitat complexity by adding deep-water channels, islands, and/or habitat transition zones.

• Modifying pond bottom elevations or topography to redirect tidal flows.

• Using dredged or upland fill material to speed marsh vegetation establishment.

Recreation and public access actions may include the following:

• Maintain the existing trail that runs along the top of the large Federal levee that forms the southern edge of the complex. This may involve constructing bridge(s) over any changes that are made to that levee.

• Complete the Bay Trail spine along the eastern edge of the pond complex.

• Adding a spur trail along the northern edge of Pond E6 from the Bay Trail spine to the site of the former Alvarado Salt Works.

• Convert the above spur trail into a loop by building a footbridge over Old Alameda Creek and a trail back to the Bay Trail spine.

Flood protection may include:

• Raising and improving existing levees or berms or making other improvements to maintain or increase coastal flood risk protection.

Alternatives

The EIS/EIR will consider a range of alternatives and their impacts, including the No Action/No Project Alternative. Scoping is designed to be an early and open process to determine the issues and alternatives to be addressed in the EIS/EIR. The range of alternatives may include varying approaches to restoring and enhancing a mix of wetland habitats, as well as varying levels and means of flood management, and recreation and public access components which correspond to the project objectives.

The Phase 2 EIS/EIR for Eden Landing will identify the anticipated effects of the alternatives (both negative and beneficial) and describe and analyze direct, indirect, and cumulative impacts of each alternative.

NEPA Compliance

This EIS/EIR is a project-level environmental document that is tiered from the programmatic portion of the 2007 Final EIS/EIR for the SBSP Restoration Project. Information gathered through this scoping process will assist us in developing a reasonable range of alternatives to continue to address the restoration of Eden Landing salt ponds and collaborative integration with adjacent landowners and operators of public infrastructure.

A detailed description of the proposed action and alternatives will be included in the EIS/EIR. For each issue or potential impact identified, the EIS/EIR will include a discussion of the parameters used in evaluating the impacts as well as recommended mitigation, indicating the effectiveness of mitigation measures proposed to be implemented and what, if any, additional measures would be required to reduce the degree of impact. The EIS/EIR will include an analysis of the restoration, flood management, and recreation and public access components associated with the proposed restoration.

We will conduct environmental review in accordance with the requirements of NEPA, as amended (42 U.S.C. 4321 et seq.), its implementing regulations (40 CFR parts 1500-1508), other applicable regulations, and our procedures for compliance with those regulations. The environmental document will be prepared to meet both the requirements of NEPA and the California Environmental Quality Act (CEQA). The CDFW is the CEQA lead agency and USFWS is the lead agency under NEPA. We are the NEPA lead agency because we provide a variety of biological monitoring, financial and management support on this CDFW unit. We anticipate that a Draft EIS/EIR will be available for public review in November 2016.

Public Comment

We are furnishing this notice in accordance with section 1501.7 of the NEPA implementing regulations to obtain suggestions and information from other agencies and the public on the scope of issues to be addressed in the EIS/EIR. We invite written comments from interested parties to ensure identification of the full range of issues.

Before including your address, phone number, email address, or other personal identifying information in your comment, you should be aware that your entire comment—including your personal identifying information—may be made publicly available at any time. While you can ask us in you comment to withhold your personal identifying information from public review, we cannot guarantee that we will be able to do so.

Public Scoping Meeting

In addition to providing written comments, the public is encouraged to attend a public scoping meeting on Thursday, June 30, 2016, to provide us with suggestions and information on the scope of issues and alternatives to consider when drafting the EIS/EIR. The location of the public scoping meeting is provided in DATES.

Persons needing reasonable accommodations in order to attend and participate in the public meeting should contact us at the address in ADDRESSES no later than 1 week before the public meeting. Information regarding the proposed restoration is available in alterative formats upon request. We will accept written comments at the scoping meeting or afterwards.

Alexandra Pitts,
Acting Regional Director, Pacific Southwest Region.

[FR Doc. 2016-14565 Filed 6-17-16; 8:45 am]

BILLING CODE 4333-15-P